Title 3—

The President

Proclamation 10938 of May 12, 2025

Peace Officers Memorial Day and Police Week, 2025

By the President of the United States of America

A Proclamation

On Peace Officers Memorial Day and during Police Week, we honor our brave officers who serve on the front lines to protect our families, safeguard our communities, and shoulder a burden of responsibility that most Americans cannot fathom. This week and always, we honor the courageous men and women serving in law enforcement and memorialize those who sacrificed their lives defending the thin blue line.

A nation in chaos ceases to be a citadel of liberty. Tragically, the previous administration allowed lawlessness to permeate our country, making it harder for our law enforcement officers to do their jobs. Their reckless, soft-on-crime policies emboldened criminals and thugs; wreaked havoc on the sanctity of our homes, businesses, and public spaces; instilled fear; and jeopardized public trust.

As your 47th President, I am fulfilling my promise to make America safe again by reclaiming sovereignty on the border and restoring the rule of law in communities nationwide. We will utilize every available means to equip and train law enforcement, retain qualified officers, and recruit on the basis of meritocracy.

The oath to serve and protect comes with extraordinary risk and sacrifice, and we are indebted to those who choose this righteous profession. That is why I have asked the Congress to codify my Executive Order mandating the death penalty for the murder of a police officer—sending an unequivocal message that barbaric acts of violence and blatant disregard for the lives of our Nation's heroes will not be tolerated—and to pass a crime bill with enhanced protections for police officers.

I stand in steadfast solidarity with those who defend our freedoms and the families who love and support them. We pray for those who grieve the fallen and pledge that their lives, legacies, and sacrifices will forever be remembered by our grateful Nation.

By a joint resolution approved October 1, 1962, as amended (Public Law 87-726, 76 Stat. 676), and by Public Law 105-225 (36 U.S.C. 136-137), the President has been authorized and requested to designate May 15 of each year as “Peace Officers Memorial Day” and the week in which it falls as “Police Week.”

NOW, THEREFORE, I, DONALD J. TRUMP, President of the United States of America, do hereby proclaim May 15, 2025, as Peace Officers Memorial Day and May 11 through May 17, 2025, as Police Week. I call upon all Americans to observe this week with appropriate ceremonies and activities. I also call on the Governors of the States and Territories and officials of other areas subject to the jurisdiction of the United States to direct that the flag be flown at half-staff on Peace Officers Memorial Day.

IN WITNESS WHEREOF, I have hereunto set my hand this twelfth day of May, in the year of our Lord two thousand twenty-five, and of the Independence of the United States of America the two hundred and forty-ninth.

[FR Doc. 2025-09229

Filed 5-20-25; 8:45 am]

Billing code 3395-F4-P